DEPARTMENT OF ENERGY

Federal Energy Regulatory Commission

[P-13235-000]

Middlebury Electric, LLC; Notice of Application for Preliminary Permit Accepted for Filing and Soliciting Comments, Motions to Intervene, and Protests

September 2, 2008.

On June 5, 2008, Middlebury Electric, LLC filed an application, pursuant to section 4(f) of the Federal Power Act (FPA), to study the feasibility of Middlebury Upper Hydroelectric Project. The proposed project would be located on the Otter Creek in Addison County, Vermont. The properties that would be associated with the proposed Middlebury Upper Hydroelectric Project are owned by the applicant.

The proposed project using the existing properties, including the sluiceway, intake infrastructure, and flume, would consist of: (1) A proposed powerhouse, containing a single 400 kW generating unit; (2) a proposed penstock approximately 120 feet long, 7.5 feet wide; (3) a proposed new transmission line around 500 feet long; and (4) appurtenant facilities. The proposed project would have an average annual generation of approximately 2.8 gigawatt-hours, to be utilized by Middlebury College.

Applicant Contact: Dr. Anders Holm, 1330 Exchange Street, Middlebury, VT 05445, (802) 233-9606.

FERC Contact: Jake Tung, (202) 502-8757.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13235) in the docket number field to access the document. For assistance, call toll-free 1-866-208-3372.

Kimberly D. Bose,
Secretary.

[FR Doc. E8-20804 Filed 9-8-08; 8:45 am]

BILLING CODE 6717-01-P